DEPARTMENT OF ENERGY

Federal Energy Regulatory Commission

[Docket No. CP00-14-000]

Buccaneer Gas Pipeline Company, L.L.C.; Notice of Availability of the Draft Environmental Impact Statement for the Proposed Buccaneer Gas Pipeline Project

August 30, 2000.

The staff of the Federal Energy Regulatory Commission (FERC or Commission) and the Minerals Management Service (MMS) has prepared a Draft Environmental Impact Statement (DEIS) on the natural gas pipeline facilities proposed by Buccaneer Gas Pipeline Company, L.L.C. (Buccaneer) in the above-referenced docket.

The DEIS was prepared to satisfy the requirements of the National Environmental Policy Act. The staff concludes that approval of the proposed project, with the appropriate mitigating measures as recommended, would have limited adverse environmental impact. The DEIS also evaluates alternatives to the proposal, including system alternatives.

The DEIS addresses the potential environmental effects of the construction and operation of the following facilities:

• 4.0 miles of 36-inch-diameter pipeline in Mobile County, Alabama;

• 406.9 miles of 36-inch-diameter pipeline from the shoreline of Mobile County, Alabama, across the Gulf of Mexico, to the shoreline of Pasco County, Florida;

• 125.1 miles of 36-inch-diameter pipeline in Pasco, Polk, Osceola, and Orange Counties, Florida;

• 142.3 miles of 16- to 30-inch-diameter lateral pipeline in Pasco, Polk, Hardee, Lake, Osceola, Orange, and Brevard Counties, Florida;

• 1 mainline meter station in Mobile County, Alabama and 13 meter and regulating stations in Pasco, Polk, Hardee, Lake, Osceola, Orange, and Brevard Counties, Florida; and

• a new 75,000 horsepower compressor station in Mobile County, Alabama and a new liquids separation facility in Pasco County, Florida.

The purpose of the Buccaneer Pipeline Project is to provide natural gas transportation service for up to 900 million cubic feet per day (MMcf/d) of natural gas from supply areas in Alabama, across the Gulf of Mexico, for delivery to new markets in central and eastern Florida. The primary market is for natural gas-fueled electric generation plants that are needed to meet the forecasted substantial increases in consumption in Florida driven by projected population growth over the next 10 to 20 years.

Comment Procedures and Public Meetings

Any person wishing to comment on the DEIS may do so. To ensure consideration prior to a Commission decision on the proposal, it is important that we receive your comments before the date specified below. Please carefully follow these instructions to ensure that your comments are received in time and properly recorded:

• Send two copies of your comments to: Secretary, Federal Energy Regulatory Commission, 888 First St., N.E., Room 1A, Washington, DC 20426;

• Label one copy of the comments for the attention of the Gas 2, PJ-11.2;

• Reference Docket No. CP00-14-000; and

• Mail your comments so that they will be received in Washington, DC on or before October 24, 2000.

In addition to written comments, we will hold public meetings in the project area to receive comments on the DEIS. All meetings will begin at 7:00 p.m., and are scheduled as follows:

Date and Location

September 26, 2000—Bayou La Batre Community Center, 12745 Padgett Switch Road, Bayou La Batre, Alabama, (334) 824-7918.

September 27, 2000—Community Center, U.S. Highway 41, Land O' Lakes, Florida, (813) 929-1229.

October 3, 2000—Florida Department of Agriculture and Consumer Services, 500 3rd Street, NW., Winter Haven, Florida, (863) 291-5820.

October 4, 2000—Holiday Inn, Bayhill Ballroom, 2145 E. Irlo Bronson Memorial Hwy., Kissimmee, Florida, (407) 846-4646.

October 5, 2000—City of Titusville, Council Chambers, 55 South Washington Ave., Titusville, Florida, (321) 383-5774.

Interested groups and individuals are encouraged to attend and present oral comments on environmental impact described in the DEIS. Transcripts of the meetings will be prepared.

After these comments are reviewed, any significant new issues are investigated, and modifications are made to the DEIS, a Final Environmental Impact Statement (FEIS) will be published and distributed by the staff. The FEIS will contain the staff's responses to timely comments filed on the DEIS.

Comments will be considered by the Commission but will not serve to make the commentor a party to the proceeding. Any person may file a motion to intervene on the basis of the Commission Staff's DEIS (see Title 18 Code of Federal Regulations, Part 385.214). You do not need intervenor status to have your comments considered.

All intervenors, agencies, elected officials, local governments, special interest groups, libraries, media, and anyone providing written comments on the DEIS will receive a copy of the FEIS. If you do not wish to comment on the DEIS but wish to receive a copy of the FEIS, you must write to the Secretary of the Commission indicating this request.

The DEIS has been placed in the public files of the FERC and is available for distribution and public inspection at: Federal Energy Regulatory Commission, Public Reference and Files Maintenance Branch, 888 First Street, NE., Room 2A, Washington, DC 20426, (202) 208-1371.

A limited number of copies are available from the Public Reference and Files Maintenance Branch identified above. In addition, copies of the DEIS have been mailed to Federal, State and local agencies, public interest groups, individuals who have requested the DEIS, newspapers, and parties to this proceeding.

Additional information about the proposed project is available from Paul McKee in the Commission's Office of External Affairs at (202) 208-1088 or on the FERC website (www.ferc.fed.us), using the “RIMS” link to information in the docket numbers. For assistance with access to RIMS, the RIMS helpline can be reached at (202) 208-2222. Access to the texts of formal documents issued by the Commission with regard to these dockets, such as orders and notices, is also available on the FERC website using the “CIPS” link. for assistance with access to CIPS, the CIPS helpline can be reached at (202) 208-2474.

Linwood A. Watson, Jr.,
Acting Secretary.

[FR Doc. 00-22712 Filed 9-5-00; 8:45 am]

BILLING CODE 6717-01-M